DEPARTMENT OF HEALTH AND HUMAN SERVICES

Centers for Disease Control and Prevention

Disease, Disability, and Injury Prevention and Control Special Emphasis Panel (SEP): Initial review

The meeting announced below concerns Centers for Disease Control and Prevention Public Health Preparedness and Response Research to Aid Recovery from Hurricane Sandy, Request for Application (RFA) TP13-001, initial review.

In accordance with Section 10(a)(2) of the Federal Advisory Committee Act (Pub. L. 92-463), the Centers for Disease Control and Prevention (CDC) announces the aforementioned meeting:

Times and Dates: 8:30 a.m.-5:00 p.m., July 10, 2013 (Closed); 8:30 a.m.-5:00 p.m., July 11, 2013 (Closed).

Place: Georgian Terrace Hotel, 659 Peachtree Street NE., Atlanta, Georgia 30308.

Status: The meeting will be closed to the public in accordance with provisions set forth in Section 552b(c)(4) and (6), Title 5 U.S.C., and the Determination of the Director, Management Analysis and Services Office, CDC, pursuant to Public Law 92-463.

Matters To Be Discussed: The meeting will include the initial review, discussion, and evaluation of applications received in response to “Centers for Disease Control and Prevention Public Health Preparedness and Response Research to Aid Recovery from Hurricane Sandy, RFA TP13-001”.

Contact Person For More Information: Shoukat Qari, D.V.M., Ph.D., Scientific Review Officer, CDC, 1600 Clifton Road NE., Mailstop K72, Atlanta, Georgia 30333, Telephone: (770) 488-8808.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2013-13738 Filed 6-10-13; 8:45 am]

BILLING CODE 4163-18-P